DEPARTMENT OF ENERGY

Federal Energy Regulatory Commission

[Docket No. EL15-66-000]

Southern Company Services, Inc.; KCP&L Greater Missouri Operations Company; The Empire District Electric Company; Associated Electric Cooperative, Inc.; v. Midcontinent Independent System Operator, Inc.; Notice of Complaint

Take notice that on May 20, 2015, pursuant to sections 309, 205, and 206 of the Federal Power Act (FPA), 16 U.S.C. 824(e), 824(d), and 825(h) and Rule 206 of the Federal Energy Regulatory Commission's (Commission) Rules of Practice and Procedure, 18 CFR 385.206, Southern Company Services, Inc., as agent for Alabama Power Company, Georgia Power Company, Gulf Power Company, Mississippi Power Company, and Southern Power Company (Southern Companies), KCP&L Greater Missouri Operations Company, The Empire District Electric Company, and Associated Electric Cooperative, Inc. (collectively, Complainants), filed a formal complaint against Midcontinent Independent System Operator, Inc., as agent and tariff administrator of the MISO Open-Access Transmission Tariff (MISO or Respondent), alleging that: (1) Respondent has levied unlawful charges upon Complainants in violation of section 205 of the FPA, and; (2) Respondent's rates for transmission service are unjust, unreasonable, unduly discriminatory and preferential and in violation of established precedent under FPA sections 205 and 206.

The Complainants certify that a copy of the complaint has been served on the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 9, 2015.

Dated: May 21, 2015.
Kimberly D. Bose,
Secretary.

[FR Doc. 2015-12862 Filed 5-27-15; 8:45 am]

BILLING CODE 6717-01-P